OFFICE OF THE UNITED STATES TRADE REPRESENTATIVE

Conforming Amendments to Product Exclusion Extensions: China's Acts, Policies, and Practices Related to Technology Transfer, Intellectual Property, and Innovation

AGENCY: Office of the United States Trade Representative (USTR).

ACTION: Notice.

SUMMARY: Effective January 27, 2022, the U.S. International Trade Commission (USITC) will implement certain changes to statistical reporting categories in the Harmonized Tariff Schedule of the United States (HTSUS). As a result of these changes, USTR is making three conforming amendments to product exclusion extensions in the above-titled investigation under Section 301.

DATES: The conforming amendments in the Annex to this notice are effective January 27, 2022.

FOR FURTHER INFORMATION CONTACT: For general questions about this notice, contact Associate General Counsel Philip Butler or Assistant General Counsel Rachel Hasandras at (202) 395-5725. For specific questions on customs classification or implementation of the product exclusion identified in the Annex to this notice, contact traderemedy@cbp.dhs.gov.

SUPPLEMENTARY INFORMATION:

A. Background

Effective January 27, 2022, the USITC, in accordance with Presidential Proclamation 10326 of December 23, 2021, will implement certain changes in ten digit statistical reporting categories of the HTSUS in accordance with its responsibility to update the HTSUS to conform to amendments adopted by the World Customs Organization. Three of the currently applicable product exclusions in the Section 301 investigation of China's Acts, Policies, and Practices Related to Technology Transfer, Intellectual Property, and Innovation, as set out at 85 FR 85831 (December 29, 2020), 86 FR 13785 (March 10, 2021), and 86 FR 63438 (November 16, 2021) are based on the amended statistical reporting categories.

B. Technical Amendments to Exclusion Extensions

The Annex to this notice conforms three existing product exclusions with the January 27, 2022 changes to ten digit statistical reporting categories in the HTSUS. In particular, the Annex makes a technical amendment to U.S. notes 20(sss)(i)(1), 20(sss)(iii)(14), and 20(iii)(15) to subchapter III of chapter 99 of the HTSUS, as set out in the Annexes to the notices published at 85 FR 85831 (December 29, 2020), 86 FR 13785 (March 10, 2021), and 86 FR 63438 (November 16, 2021).

Annex

Effective with respect to goods entered for consumption, or withdrawn from warehouse for consumption, on or after 12:01 a.m. eastern daylight time on [January 27, 2022] and before 11:59 p.m. eastern daylight time on [May 31, 2022]:

1. Note 20(sss)(i)(1) to subchapter III of chapter 99 of the Harmonized Tariff Schedule of the United States (HTSUS) is amended by deleting “8421.39.8090” and by inserting “8421.39.8090 prior to January 27, 2022; described in statistical reporting number 8421.39.0190 effective January 27, 2022” in lieu thereof;

2. Note 20(sss)(iii)(14) to subchapter III of chapter 99 of the HTSUS is amended by deleting “3824.99.9297” and by inserting “3824.99.9297 prior to January 27, 2022; described in statistical reporting number 3824.99.9397 effective January 27, 2022” in lieu thereof; and

3. Note 20(sss)(iii)(15) to subchapter III of chapter 99 of the HTSUS is amended by deleting “3824.99.9297” and by inserting “3824.99.9297 prior to January 27, 2022; described in statistical reporting number 3824.99.9397 effective January 27, 2022” in lieu thereof.

Greta Peisch,
General Counsel, Office of the United States Trade Representative.

[FR Doc. 2022-01732 Filed 1-27-22; 8:45 am]

BILLING CODE 3390-F2-P